DEPARTMENT OF AGRICULTURE

Animal and Plant Health Inspection Service

[Docket No. APHIS-2011-0072]

Plants for Planting Whose Importation Is Not Authorized Pending Pest Risk Analysis; Notice of Availability of Data Sheets for Taxa of Plants for Planting That Are Quarantine Pests or Hosts of Quarantine Pests

AGENCY: Animal and Plant Health Inspection Service, USDA.

ACTION: Notice; reopening of comment period.

SUMMARY: We are reopening the comment period for a notice that advised the public that we have determined that 41 taxa of plants for planting are quarantine pests and 107 taxa of plants for planting are hosts of 13 quarantine pests and therefore should be added to our lists of taxa of plants for planting whose importation is not authorized pending pest risk analysis. The notice also made available to the public for review and comment data sheets that detail the scientific evidence we evaluated in making the determination that the taxa are quarantine pests or hosts of quarantine pests. This action will allow interested persons additional time to prepare and submit comments.

DATES: We will consider all comments that we receive on or before November 25, 2011.

ADDRESSES: You may submit comments by either of the following methods:

• Federal eRulemaking Portal: Go to http://www.regulations.gov/#!documentDetail;D=APHIS-2011-0072-0001.

• Postal Mail/Commercial Delivery: Send your comment to Docket No. APHIS-2011-0072, Regulatory Analysis and Development, PPD, APHIS, Station 3A-03.8, 4700 River Road Unit 118, Riverdale, MD 20737-1238.

Supporting documents and any comments we receive on this docket may be viewed at http://www.regulations.gov/#!docketDetail;D=APHIS-2011-0072 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Arnold Tschanz, Senior Plant Pathologist/Senior Risk Manager, Plants for Planting Policy, RPM, PPQ, APHIS, 4700 River Road Unit 133, Riverdale, MD 20737-1236; (301) 734-0627.

SUPPLEMENTARY INFORMATION:

On July 26, 2011, we published in the Federal Register (76 FR 44572-44573, Docket No. APHIS-2011-0072) a notice advising the public that we have determined that 41 taxa of plants for planting are quarantine pests and 107 taxa of plants for planting are hosts of 13 quarantine pests and therefore should be added to our lists of taxa of plants for planting whose importation is not authorized pending pest risk analysis. The notice also made available to the public for review and comment data sheets that detail the scientific evidence we evaluated in making the determination that the taxa are quarantine pests or hosts of quarantine pests.

Comments on the notice were required to be received on or before September 26, 2011. We are reopening the comment period on Docket No. APHIS-2011-0072 for an additional 30 days. This action will allow interested persons additional time to prepare and submit comments. We will also consider all comments received between September 27, 2011, and the date of this notice.

Authority: 7 U.S.C. 450, 7701-7772, and 7781-7786; 21 U.S.C. 136 and 136a; 7 CFR 2.22, 2.80, and 371.3.

Done in Washington, DC, this 19th day of October 2011.
Kevin Shea,
Acting Administrator, Animal and Plant Health Inspection Service.

[FR Doc. 2011-27559 Filed 10-24-11; 8:45 am]

BILLING CODE 3410-34-P